OVERSEAS PRIVATE INVESTMENT CORPORATION

Sunshine Act; Meeting

OPIC's Sunshine Act notice of its public hearing was published in the Federal Register (Volume 68, Number 62, Page 15773) on April 1, 2003. No requests were received to provide testimony or submit written statements for the record; therefore, OPIC's public hearing in conjunction with OPIC's April 24, 2003 Board of Directors meeting scheduled for 2 pm on April 17, 2003 has been cancelled.

CONTACT PERSON FOR INFORMATION: Information on the hearing cancellation may be obtained from Connie M. Downs at (202) 336-8438, via facsimile at (202) 218-0136, or via e-mail at cdown@opic.gov.

Dated: April 15, 2003.
Connie M. Downs,
OPIC Corporate Secretary.

[FR Doc. 03-9592 Filed 4-15-03; 11:37 am]

BILLING CODE 3210-01-M